DEPARTMENT OF COMMERCE

National Oceanic and Atmospheric Administration

Notice of Sites Added to the Inventory of Possible Areas for Designation as New National Marine Sanctuaries

AGENCY: Office of National Marine Sanctuaries (ONMS), National Ocean Service (NOS), National Oceanic and Atmospheric Administration (NOAA), Department of Commerce (DOC).

ACTION: Notice of sites added to the Sanctuary Nomination Process inventory of possible areas for designation as new national marine sanctuaries.

SUMMARY: On June 13, 2014, NOAA published a final rule re-establishing the Sanctuary Nomination Process (SNP) which allows communities to submit nominations to NOAA for consideration as new national marine sanctuaries. The rule included the final review process, national significance criteria, and management considerations that NOAA uses to evaluate community nominations for inclusion in the inventory of areas that could be considered for designation as national marine sanctuaries. The rule also states that NOAA will publish a Federal Register notice when areas have been added to the inventory. This notice announces that NOAA has added four sanctuary nominations to the SNP inventory between June 2014 and April 2016.

FOR FURTHER INFORMATION CONTACT: Annie Sawabini, NOAA Office of National Marine Sanctuaries, 1305 East West Highway, Silver Spring MD 20910.

SUPPLEMENTARY INFORMATION:

I. Background

The National Marine Sanctuaries Act (NMSA) (16 U.S.C. 1431 et seq.) authorizes the Secretary of Commerce to identify and designate as national marine sanctuaries areas of the marine environment, including the Great Lakes, which are of special national significance; to manage these areas as the National Marine Sanctuary System; and to provide for the comprehensive and coordinated conservation and management of these areas and the activities affecting them in a manner which complements existing regulatory authorities. Section 303 of the NMSA provides national marine sanctuary designation standards and factors required in determining whether an area qualifies for consideration as a potential national marine sanctuary, and section 304 establishes procedures for national marine sanctuary designation and implementation. Regulations implementing the NMSA and each national marine sanctuary are codified in Part 922 of Title 15 of the Code of Federal Regulations.

On June 28, 2013, NOAA issued a proposed rule to re-establish the Sanctuary Nomination Process (SNP) and requested public comment on the proposed amendments to ONMS regulations (78 FR 38848). On June 13, 2014, NOAA issued a final rule addressing the nearly 18,000 comments NOAA received on the proposed rule, and finalized the national significance criteria, management considerations, and process to nominate areas of the marine and Great Lakes environments for potential addition to the inventory of areas that may be considered for future designation as a national marine sanctuary (79 FR 33851).

As described in that rule, the final step of the SNP is the addition of specific areas to the inventory. Nominations that the ONMS Director deems to have successfully completed the reviews for sufficiency, national significance, and management considerations are added to an inventory of areas NOAA could consider for national marine sanctuary designation. For these nominations, NOAA sends a letter of notification to the nominator, and publishes a Federal Register notice when areas have been added to the inventory on a periodic basis. The inventory and notification letters are also posted on the ONMS Web site (http://www.nominate.noaa.gov). If NOAA takes no designation action on a nomination in the inventory, the nomination expires after five years from the time it is accepted to the inventory.

NOAA is not designating any new national marine sanctuaries with this action. Any designations resulting from the nomination process would be conducted by NOAA as a separate process as directed by the NMSA, Administrative Procedure Act (5 U.S.C. Subchapter II), and National Environmental Policy Act (42 U.S.C. § 4321 et seq.). NOAA follows all standards and requirements identified in the NMSA when it considers a nomination for designation.

II. Sanctuary Nominations Added to the Inventory

The following nominations have successfully completed the SNP review process and have been added to the inventory of possible areas for designation as new national marine sanctuaries:

1. Mallows Bay-Potomac River National Marine Sanctuary Nomination

The nomination for NOAA to consider the Mallows Bay area of the Potomac River as a new national marine sanctuary was submitted on September 16, 2014. The nomination was added to the inventory of successful nominations on January 12, 2015.

The Mallows Bay area of the tidal Potomac River nominated as a national marine sanctuary is an area 40 miles south of Washington, DC off the Nanjemoy Peninsula of Charles County, MD. The nominated area includes approximately 14 square miles of Maryland state waters. The designation of a national marine sanctuary would focus on conserving the collection of maritime heritage resources (shipwrecks) in the area as well as expand the opportunities for public access, recreation, tourism, research, and education. More information can be found in the nomination: http://www.nominate.noaa.gov/nominations/nomination_maryland_mallows_bay_potomac_river.pdf.

2. Lake Michigan—Wisconsin National Marine Sanctuary Nomination

The nomination for NOAA to consider a Lake Michigan-Wisconsin national marine sanctuary was submitted on December 2, 2014. The nomination was added to the inventory of successful nominations on February 5, 2015.

The area nominated as a national marine sanctuary is a region that includes 875 square miles of Wisconsin's Lake Michigan waters and bottomlands adjacent to Manitowoc, Sheboygan, and Ozaukee counties and the cities of Port Washington, Sheboygan, Manitowoc, and Two Rivers. It includes 80 miles of shoreline and extends 9 to 14 miles from the shoreline. The area contains an extraordinary collection of submerged maritime heritage resources (shipwrecks) as demonstrated by the listing of 15 shipwrecks on the National Register of Historic Places. The area includes 39 known shipwrecks, 123 reported vessel losses, numerous other historic maritime-related features, and is adjacent to communities that have embraced their centuries-long relationship with Lake Michigan. More information can be found in the nomination: http://www.nominate.noaa.gov/nominations/nomination_lake_michigan_wisconsin.pdf.

3. Chumash Heritage National Marine Sanctuary Nomination

The nomination for NOAA to consider the Chumash Heritage area off the central coast of California as a national marine sanctuary was submitted on July 17, 2015. The nomination was added to the inventory of successful nominations on October 5, 2015.

The area proposed for the national marine sanctuary stretches from the southern border of Monterey Bay National Marine Sanctuary in Cambria along approximately 140 miles of coastline to Gaviota Creek in Santa Barbara. The area includes both state waters of California and federal waters. The proposed boundary extends westward 60 to 80 miles to include the submerged Santa Lucia Bank, Arguello Canyon and Rodriguez Seamount. The area is characterized by converging oceanographic currents and persistent upwelling, creating highly productive conditions centered at the prominent ecological transition zone Point Conception. These combined features—high productivity and the ecological transition zone—mean many invertebrate, fish and algal species begin or end their natural ranges within the proposed sanctuary, thereby creating high biodiversity. The area's productive ecosystem also supports high densities of numerous marine mammal and bird species. Numerous cultural heritage resources are found throughout the proposed area, including more than 40 shipwrecks, as well as areas culturally significant to Native Americans, such as Point Conception, referred to as the Western Gate by the Chumash, and possibly submerged ancient villages on the continental shelf. More information can be found in the nomination: http://www.nominate.noaa.gov/nominations/nomination_chumash_heritage_071715.pdf.

4. Lake Erie Quadrangle National Marine Sanctuary Nomination

The nomination for NOAA to consider the Pennsylvania waters in Lake Erie for an area known as the Lake Erie Quadrangle as a national marine sanctuary was submitted on December 31, 2015. The nomination was added to the inventory of successful nominations on February 22, 2016.

The nominated site encompasses approximately 759 square miles of Pennsylvania state waters, and includes an estimated 196 shipwrecks. In addition to the historical significance of the shipwrecks themselves, this area has other nationally significant qualities. The area played an integral role in our nation's history during the War of 1812. The port of Erie, PA was a key shipbuilding port from the late 1700s through the early 20th century. It was the location where Commodore Oliver Hazard Perry's fleet was constructed for one of the most significant battles of the 1812 war. In addition, prior to the Civil War, Pennsylvania's Lake Erie waters housed the nation's largest fleet of steamboats, and were a major hub on the Underground Railroad. More information can be found in the nomination: http://www.nominate.noaa.gov/nominations/lake-erie-proposal.pdf.

III. Active National Marine Sanctuary Designations

While the addition of a nomination to the inventory does not designate any new national marine sanctuaries, two (2) of the successful nominations in the list above have subsequently been selected for designation by NOAA, and have begun the designation processes as outlined in the NMSA including NEPA analysis. The notice of intent to conduct scoping and begin the designation process for the Proposed Mallows Bay-Potomac River National Marine Sanctuary was announced in the Federal Register on October 7, 2015 (80 FR 60634). The notice of intent to conduct scoping and begin the designation process for the Proposed Wisconsin-Lake Michigan National Marine Sanctuary was announced in the Federal Register on October 7, 2015 (80 FR 60631).

IV. Classification

A. National Environmental Policy Act

NOAA has concluded that this action will not have a significant effect, individually or cumulatively, on the human environment, because this action is not creating or designating any new national marine sanctuaries. Therefore, this action is categorically excluded from the requirement to prepare an environmental assessment or environmental impact statement in accordance with Section 6.03c.3(i) of NOAA Administrative Order 216-6. Specifically, this action is a notice of an administrative and legal nature. Should NOAA decide to designate a national marine sanctuary, and in cases where NOAA has decided to begin active designation as a national marine sanctuary, each individual national marine sanctuary designation will be subject to case-by-case analysis, as required under NEPA and as outlined in section 304(a)(2)(A) of the NMSA.

B. Paperwork Reduction Act

Notwithstanding any other provisions of the law, no person is required to respond to, nor shall any person be subject to a penalty for failure to comply with a collection of information subject to the requirements of the Paperwork Reduction Act (PRA), 44 U.S.C. 3501 et seq., unless that collection of information displays a currently valid Office of Management and Budget (OMB) control number. Nominations for national marine sanctuaries discussed in this notice involve a collection-of-information requirement subject to the requirements of the PRA. OMB has approved this collection-of-information requirement under OMB control number 0648-0682.

Authority: 16 U.S.C. 1431 et seq.

Dated: May 23, 2016.
John Armor,
Acting Director, Office of National Marine Sanctuaries.

[FR Doc. 2016-13111 Filed 6-2-16; 8:45 am]

BILLING CODE 3510-NK-P